DEPARTMENT OF JUSTICE

Antitrust Division

Notice Pursuant to the National Cooperative Research and Production Act of 1993—Members of Sgip 2.0, Inc.

Notice is hereby given that, on February 24, 2017, pursuant to Section 6(a) of the National Cooperative Research and Production Act of 1993, 15 U.S.C. 4301 et seq. (“the Act”), Members of SGIP 2.0, Inc. (“MSGIP 2.0”) has filed written notifications simultaneously with the Attorney General and the Federal Trade Commission disclosing changes in its membership. The notifications were filed for the purpose of extending the Act's provisions limiting the recovery of antitrust plaintiffs to actual damages under specified circumstances. Specifically, Twin Oaks Computing, Castle Rock, CO; Spirae, LLC, Fort Collins, CO; Siemens, Minnetonka, MN; and Intel, Hillsboro, OR, have been added as parties to this venture.

Also, Utility Integration Solutions Organization, Fort Washington, PA; NovaTech, LLC, Quakertown, PA; Portland General Electric Company, Portland, OR; Upperbay Systems, Franklin, MA; Aclara, Hazelwood, MO; Energy Alternative Solutions LLC, Bel Air, MD; Energy Surety Partners LLC, Phoenix, AZ; GridWise Alliance, Washington, DC; KALKITECH, Houston, TX; Reef Energy Systems, LLC, Danville, CA; and ViaSat, Inc., Carlsbad, CA, have withdrawn as parties to this venture.

No other changes have been made in either the membership or planned activity of the group research project. Membership in this group research project remains open, and MSGIP 2.0 intends to file additional written notifications disclosing all changes in membership.

On February 5, 2013, MSGIP 2.0 filed its original notification pursuant to Section 6(a) of the Act. The Department of Justice published a notice in the Federal Register pursuant to Section 6(b) of the Act on March 7, 2013 (78 FR 14836).

The last notification was filed with the Department on November 9, 2016. A notice was published in the Federal Register pursuant to Section 6(b) of the Act on December 13, 2016 (81 FR 89991).

Patricia A. Brink,
Director of Civil Enforcement, Antitrust Division.

[FR Doc. 2017-05923 Filed 3-24-17; 8:45 am]

BILLING CODE 4410-11-P